DEPARTMENT OF HOMELAND SECURITY

U.S. Customs and Border Protection

2025 Trade and Cargo Security Summit

AGENCY: U.S. Customs and Border Protection, Department of Homeland Security.

ACTION: Notice of 2025 Trade and Cargo Security Summit.

SUMMARY: This document announces that U.S. Customs and Border Protection (CBP) will convene the 2025 Trade and Cargo Security (TCS) Summit in New Orleans, LA, on May 6-8, 2025. The 2025 TCS Summit will be open for the public to attend in person or via webinar. The 2025 TCS Summit will feature CBP personnel, members of the trade community, and members of other government agencies in panel discussions on CBP's role in international trade initiatives and programs. Members of the international trade and transportation communities and other interested parties are encouraged to attend.

DATES: Tuesday, May 6, 2025 (opening remarks and general sessions, 8:00 a.m.-5:00 p.m. CDT), Wednesday, May 7, 2025 (breakout sessions, 8:00 a.m.-5:00 p.m. CDT), and Thursday, May 8, 2025 (breakout sessions, 8:00 a.m.-12:30 p.m. CDT).

ADDRESSES: The 2025 Trade and Cargo Security Summit will be held at the Hilton New Orleans Riverside at Two Poydras Street, New Orleans, LA 70130. Directional signage will be displayed throughout the event space for registration, the sessions, and the exhibits.

Registration: Registration is open. Registration to attend in person will close April 24, 2025, at 4:00 p.m. EDT. Registration to attend virtually via webcast will close May 1, 2025, at 4:00 p.m. EDT. Registration information may be found on the event web page at https://inevent.com/en/USCustomsandBorderProtection-1686596630/2025TFCSSummit/hotsite.php. All registrations must be made online and will be confirmed with payment by credit card only. The registration fee to attend in person is $328.00 per person. The registration fee to attend virtually via Chime webcast is $28.00 per person. Interested parties are requested to register immediately as space is limited. Members of the public who are pre-registered to attend and later need to cancel, may do so by using the link from their confirmation email or sending an email to TFCSSummit@cbp.dhs.gov. Please include your name and confirmation number with your cancellation request. Cancellation requests made after Friday, April 11, 2025, will not receive a refund.

FOR FURTHER INFORMATION CONTACT: Mrs. Daisy Castro, Office of Trade Relations, U.S. Customs and Border Protection at (202) 344-1440 or at TFCSSummit@cbp.dhs.gov. The most current 2025 TCS Summit information can be found at https://inevent.com/en/USCustomsandBorderProtection-1686596630/2025TFCSSummit/hotsite.php.

For information on facilities or services for individuals with disabilities or to request special assistance at the meeting, please contact Mrs. Daisy Castro, Office of Trade Relations, U.S. Customs and Border Protection at (202) 344-1440 or at TFCSSummit@cbp.dhs.gov, as soon as possible.

SUPPLEMENTARY INFORMATION: This document announces that U.S. Customs and Border Protection (CBP) will convene the 2025 Trade and Cargo Security (TCS) Summit in New Orleans, LA, on May 6-8, 2025. The format of the 2025 TCS Summit will consist of general sessions on the first day and breakout sessions on the second and third days. The 2025 TCS Summit will feature panels composed of CBP personnel, members of the trade community, and members of other government agencies. The panel discussions will address various topics of interest to the trade community. The 2025 TCS Summit agenda will be posted on the CBP website: https://inevent.com/en/USCustomsandBorderProtection-1686596630/2025TFCSSummit/hotsite.php.

Hotel accommodations have been made available at the Hilton New Orleans Riverside at Two Poydras Street, New Orleans, LA 70130. Hotel room block reservation information can be found on the event web page at https://inevent.com/en/USCustomsandBorderProtection-1686596630/2025TFCSSummit/hotsite.php.

George Bogden,
Executive Director, Office of Trade Relations.

[FR Doc. 2025-06574 Filed 4-16-25; 8:45 am]

BILLING CODE 9111-14-P